DEPARTMENT OF JUSTICE

[OMB Number 1121-NEW]

Agency Information Collection Activities; Proposed eCollection; eComments Requested Extension With Change, of a Previously Approved Collection National Criminal Justice Reference Service (NCJRS) Online Subscription Center

AGENCY: Office of Justice Programs' Office of Communications, Department of Justice.

ACTION: 30-Day notice.

SUMMARY: The Department of Justice (DOJ), Office of Justice Programs (OJP), Office of Communications (OCOM) will be submitting the following information collection request to the Office of Management and Budget (OMB) for review and approval in accordance with the Paperwork Reduction Act of 1995.

DATES: Comments are encouraged and will be accepted for 30 days until March 28, 2019.

FOR FURTHER INFORMATION CONTACT: Written comments and/or suggestions regarding the items contained in this notice, especially the estimated public burden and associated response time, should be directed to U.S. Department of Justice, Office of Justice Programs, Office of Communications, 810 Seventh Street NW, Washington, DC 20531. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: National Criminal Justice Reference Service (NCJRS) online subscription center: https://www.ncjrs.gov/App/Secure/Registration/Register.aspx/.

(3) Agency form number, if any, and the applicable component of the Department sponsoring the collection: Agency form number: 1121-NEW.

Sponsoring component: Department of Justice, Office of Justice Programs, Office of Communications.

(4) Affected public who will be asked or required to respond, as well as a brief abstract: Currently, constituents can sign-up for communications, such as new publications, funding opportunities, events, and other news and announcements from NCJRS and the NCJRS federal sponsors, place online orders, and track their order status by creating a detailed profile on NCJRS.gov. End Users can also subscribe to specific Bureau, Program Office, and shared email notification lists and newsletters when creating an NCJRS account. This action can also be accomplished on various Bureau, Program Office, or GovDelivery web pages.

However, the NCJRS online subscription center is more than 14 years old and subscription form selections have remained relatively unchanged for more than 20 years. Moreover, the subscription process includes 19 required fields and 7 different screens, creating an undue burden for End Users.

An evaluation of the current use of the information collected through the form and its impact to End Users was conducted to see where updates can be made to make for a better user experience while enabling customer segmentation strategies for targeted outreach. The goals for revising the subscription process are to increase subscriptions by making the sign-up process less cumbersome for users and collect meaningful customer information to assist segmentation strategies for targeted outreach and upselling of Bureau and Program Office products and services.

(5) An estimate of the total number of respondents and the amount of time estimated for an average respondent to respond/reply: An estimated 75 End Users use the NCJRS online subscription center on a monthly basis to register. Based on pilot testing, an average of 2-4 minutes per respondent is needed to complete form 1121-NEW. The estimated range of burden for respondents is expected to be between 2 minutes to 4 minutes for completion.

(6) An estimate of the total public burden (in hours) associated with the collection: It is estimated that respondents will take 2-4 minutes to complete their profile. The estimated public burden hours associated for End Users to subscribe is 5 hours per month (75 respondents × 4 minutes = 300 minutes/60 minutes = 5 hours) or 60 hours per year (5 hours × 12 months = 60 hours).

If additional information is required contact: Melody Braswell, Department Clearance Officer, United States Department of Justice, Justice Management Division, Policy and Planning Staff, Two Constitution Square, 145 N Street NE, 3E.405A, Washington, DC 20530.

Dated: February 21, 2019.
Melody Braswell,
Department Clearance Officer for PRA, U.S. Department of Justice.

[FR Doc. 2019-03302 Filed 2-25-19; 8:45 am]

BILLING CODE 4410-FX-P